DEPARTMENT OF STATE

[Public Notice: 9575]

In the Matter of the Designation of ISIL-Libya, aka Islamic State of Iraq and the Levant-Libya, aka Islamic State and the Levant in Libya, aka Wilayat Barqa, aka Wilayat Fezzan, aka Wilayat Tripolitania, aka Wilayat Tarablus, aka Wilayat al-Tarablus, as a Foreign Terrorist Organization Pursuant to Sec. 219 of the Immigration and Nationality Act, as Amended

Based upon review of the Administrative Record assembled in this matter, and in consultation with the Attorney General and the Secretary of the Treasury, I conclude that there is sufficient factual basis to find that the relevant circumstances described in sec. 219 of the Immigration and Nationality Act, as amended (heinafter “INA”) (8 U.S.C. 1189), exist with respect to ISIL-Libya, also known as Islamic State of Iraq and the Levant-Libya, also known as Islamic State of Iraq and the Levant in Libya, also known as Wilayat Barqa, also known as Wialyat Fezzan, also known as Wilayat Tripolitania, also known as Wilayat Tarablus, also known as Wilayat al-Tarablus.

Therefore, I hereby designate the aforementioned organization and its aliases as a foreign terrorist organization pursuant to sec. 219 of the INA.

This determination shall be published in the Federal Register.

John F. Kerry,
Secretary of State.

[FR Doc. 2016-11992 Filed 5-19-16; 8:45 am]

BILLING CODE 4710-AD-P